GENERAL SERVICES ADMINISTRATION

[FMR Bulletin PBS-2009-B3]

Federal Management Regulation; Redesignations of Federal Buildings

AGENCY: Public Buildings Service (P), GSA.

ACTION: Notice of a bulletin.

SUMMARY: The attached bulletin announces the redesignation of a Federal building.

Expiration Date: This bulletin expires May 2010. However, the building redesignations announced by this bulletin will remain in effect until canceled or superseded.

FOR FURTHER INFORMATION CONTACT: U.S. General Services Administration, Public Buildings Service (P), Attn: Anthony E. Costa, 1800 F Street, NW., Washington, DC 20405; e-mail: anthony.costa@gsa.gov; telephone: (202) 501-1100.

Dated: November 10, 2009.
Paul F. Prouty,
Acting Administrator of General Services.

U.S. General Services Administration

FMR Bulletin PBS-2009-B3; Redesignations of Federal Buildings

To: Heads of Federal Agencies.

Subject: Designations and Redesignations of Federal Buildings.

1. What is the purpose of this bulletin? This bulletin announces the redesignation of a Federal building.

2. When does this bulletin expire? This bulletin expires May 2010. However, the building redesignation announced in this bulletin will remain in effect until canceled or superseded.

3. Redesignation. The former and new names of the redesignated building are as follows:

Former Name: Federal Building and United States Courthouse, 211 East 7th Avenue, Eugene, OR 97401.

New Name: Federal Building, 211 East 7th Avenue, Eugene, OR 97401.

4. Whom should we contact for further information regarding redesignation of this Federal building? U.S. General Services Administration, Public Buildings Service (P), Attn: Anthony E. Costa, 1800 F Street, NW., Washington, DC 20405; telephone number: (202) 501-1100; e-mail: anthony.costa@gsa.gov.

Paul F. Prouty,

Acting Administrator of General Services.

[FR Doc. E9-28184 Filed 11-23-09; 8:45 am]

BILLING CODE 6820-23-P